DEPARTMENT OF THE INTERIOR

National Park Service

Concession Contracts and Permits

AGENCY: National Park Service, Interior.

ACTION: Public notice.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operation does not affect any rights with respect to selection for award of a new concession contract.

Conc. ID No. | Concessioner name | Park
FOMC001-96 | Evelyn Hill Corporation | Fort McHenry National Memorial and Shrine.
STLI002-88 | Evelyn Hill, Inc | Statue of Liberty National Monument.

DATES: Effective Date: January 1, 2007.

FOR FURTHER INFORMATION CONTACT: Jo A. Pendry, Concession Program Manager, National Park Service, Washington, DC 20240, Telephone 202/513-7156.

Dated: December 16, 2006.
John Wessels,
Acting Assistant Director, Business Services.

[FR Doc. 07-658 Filed 2-13-07; 8:45 am]

BILLING CODE 4312-53-M